DEPARTMENT OF COMMERCE

Foreign-Trade Zones Board

[B-23-2018]

Foreign-Trade Zone 29—Louisville, Kentucky; Application for Reorganization Under Alternative Site Framework

An application has been submitted to the Foreign-Trade Zones (FTZ) Board by the Louisville & Jefferson County Riverport Authority, grantee of FTZ 29, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on April 11, 2018.

FTZ 29 was approved by the FTZ Board on May 26, 1977 (Board Order 118, 42 FR 29323; June 8, 1977) and expanded on January 31, 1989 (Board Order 429, 54 FR 5992; February 7, 1989), December 15, 1997 (Board Order 941, 62 FR 67044; December 23, 1997), July 17, 1998 (Board Order 995, 63 FR 40878; July 31, 1998), December 11, 2000 (Board Order 1133, 65 FR 79802; December 20, 2000), January 15, 2002 (Board Order 1204, 67 FR 4391; January 30, 2002), November 20, 2003 (Board Order 1305, 68 FR 67400; December 2, 2003), January 27, 2005 (Board Order 1364, 70 FR 6616; February 8, 2005), and January 31, 2012 (Board Order 1808, 77 FR 6058; February 7, 2012).

The current zone includes the following sites: Site 1 (1,643 acres)—Riverport Industrial Complex, Louisville; Site 4 (2,149 acres)—Louisville International Airport, Grade Lane, Louisville; Site 5 (69 acres)—Marathon Ashland Petroleum LLC, 4510 Algonquin Parkway, Louisville; Site 6 (43 acres)—Amazon.com.KYDC LLC, 271 Omega Parkway and 376 Zappos Boulevard, Sheperdsville; Site 7 (191 acres)—Henderson County Riverport Authority, 6200 Riverport Rd., Henderson; Site 8 (182 acres)—Owensboro Riverport Authority, 2300 Harbor Rd., Owensboro; Site 9 (778 acres)—4 Star Regional Industrial Park, Southern Star Way, Robards; Site 11 (261 acres)—Outer Loop, 116 acres at Stennett Lane, 44 acres at 8100 Air Commerce Drive and 101 acres at 1900 Outer Loop Road, Louisville; Site 13 (6 acres)—Workwell Industries, Inc., 3401 Jewell Ave, Louisville; Site 14 (3.95 acres)—Yellow Banks River Terminal, 6133 U.S. Highway 60, East Owensboro; and, Site 15 (302.3 acres)—Cedar Grove Business Park, Highway 480, near Interstate 65, Sheperdsville.

The grantee's proposed service area under the ASF would be Anderson, Boyle, Breckinridge, Bullitt, Butler, Carroll, Crittenden, Daviess, Fayette, Franklin, Gallatin, Hancock, Henderson, Henry, Hopkins, Jefferson, Jessamine, Larue, Marion, McLean, Meade, Mercer, Muhlenberg, Nelson, Ohio, Oldham, Owen, Scott, Shelby, Spencer, Trimble, Union, Washington, Webster, and Woodford Counties, Kentucky, as described in the application. If approved, the grantee would be able to serve sites throughout the service area based on companies' needs for FTZ designation. The application indicates that the proposed service area is within and adjacent to the Louisville, Kentucky and Evansville, Indiana Customs and Border Protection ports of entry.

The applicant is requesting authority to reorganize its existing zone to include existing Sites 1, 4, 7, 9, 11 and 15 as “magnet” sites and existing Sites 5, 6, 8, 13 and 14 as usage-driven sites. The ASF allows for the possible exemption of one magnet site from the “sunset” time limits that generally apply to sites under the ASF, and the applicant proposes that Site 1 be so exempted. The application would have no impact on FTZ 29's previously authorized subzones.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is June 18, 2018. Rebuttal comments in response to material submitted during the foregoing period may be submitted during the subsequent 15-day period to July 2, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Elizabeth Whiteman at Elizabeth.Whiteman@trade.gov or (202) 482-0473.

Dated: April 11, 2018.
Andrew McGilvray,
Executive Secretary.

[FR Doc. 2018-08118 Filed 4-17-18; 8:45 am]

BILLING CODE 3510-DS-P